OFFICE OF PERSONNEL MANAGEMENT

5 CFR Part 532

RIN 3206-AJ64

Prevailing Rate Systems; Redefinition of the Scranton-Wilkes-Barre, PA, Appropriated Fund Wage Area

AGENCY: Office of Personnel Management.

ACTION: Proposed rule.

SUMMARY: The Office of Personnel Management is issuing a proposed rule to redefine Tioga County, Pennsylvania, from the Scranton-Wilkes-Barre, PA, appropriated fund Federal Wage System (FWS) wage area to the Rochester, New York, FWS wage area. This redefinition would reflect economic trends in the area that indicate a linkage exists between Tioga County and the Rochester wage area and would more accurately conform to the regulatory criteria we use to define FWS wage areas.

DATES: We must receive comments by September 3, 2002.

ADDRESSES: Send or deliver comments to Donald J. Winstead, Assistant Director for Compensation Administration, Workforce Compensation and Performance Service, Office of Personnel Management, Room 7H31, 1900 E Street NW., Washington, DC 20415-8200, or FAX: (202) 606-4264.

FOR FURTHER INFORMATION CONTACT: Chenty I. Carpenter at (202) 606-2838; FAX at (202) 606-4264; or e-mail at cicarpen@opm.gov.

SUPPLEMENTARY INFORMATION: The Office of Personnel Management (OPM) is proposing to redefine Tioga County, Pennsylvania, from the Scranton-Wilkes-Barre, PA, Federal Wage System (FWS) wage area to the Rochester, NY, FWS wage area. Tioga County is currently an area of application in the Scranton-Wilkes-Barre wage area. This change is necessary because economic trends indicate more linkage between Tioga County and the Rochester survey area than to the Scranton-Wilkes-Barre survey area.

OPM considers the following regulatory criteria under 5 CFR 532.211 when defining FWS wage area boundaries:

(i) Distance, transportation facilities, and geographic features;

(ii) Commuting patterns; and

(iii) Similarities in overall population, employment, and the kinds and sizes of private industrial establishments.

Based on our analysis of the regulatory criteria for defining appropriated fund FWS wage areas, we find that Tioga County would be more appropriately defined as part of the Rochester wage area. The distance criterion favors the Rochester wage area more than the Scranton-Wilkes-Barre wage area. The commuting patterns criterion favors the Rochester wage area. An additional factor we considered is that Tioga County is adjacent to the Rochester survey area, but not to the Scranton-Wilkes-Barre survey area. This change would affect about 10 employees in the Department of the Army and 1 employee in the Department of the Interior. These employees would be placed on the wage schedule for the Rochester wage area on the first day of the first applicable pay period beginning on or after 30 days following publication of the final regulations.

The Federal Prevailing Rate Advisory Committee (FPRAC), the national labor-management committee that advises OPM on FWS pay matters, reviewed and concurred by consensus with this change. Based on its review of the regulatory criteria for defining FWS wage areas, FPRAC recommended no other changes in the geographic definitions of the Rochester or Scranton-Wilkes-Barre FWS wage areas.

Regulatory Flexibility Act

I certify that these regulations would not have a significant economic impact on a substantial number of small entities because they would affect only Federal agencies and employees.

List of Subjects in 5 CFR Part 532

Administrative practice and procedure, Freedom of information, Government employees, Reporting and recordkeeping requirements, Wages.

Office of Personnel Management.
Kay Coles James,
Director.

Accordingly, the Office of Personnel Management proposes to amend 5 CFR part 532 as follows:

PART 532—PREVAILING RATE SYSTEMS

1. The authority citation for part 532 continues to read as follows:

Authority: 5 U.S.C. 5343, 5346; § 532.707 also issued under 5 U.S.C. 552.

2. In appendix C to subpart B, the wage area listing for the State of New York is amended by revising the listing for Rochester; and for the State of Pennsylvania, by revising the listing for Scranton-Wilkes-Barre, to read as follows:

Appendix C to Subpart B of Part 532—Appropriated Fund Wage and Survey Areas

* * * * *

NEW YORK

* * * * *

ROCHESTER

Survey Area

New York:

Livingston

Monroe

Ontario

Orleans

Steuben

Wayne

Area of Application. Survey area plus:

New York:

Allegany

Chemung

Genesee

Schuyler

Seneca

Wyoming

Yates

Pennsylvania:

Tioga

* * * * *

PENNSYLVANIA

* * * * *

SCRANTON-WILKES-BARRE

Survey Area

Pennsylvania:

Lackawanna

Luzerne

Monroe

Area of Application. Survey area plus:

Pennsylvania:

Bradford

Carbon

Lycoming (Excluding Allenwood Federal Prison Camp)

Pike

Sullivan

Susquehanna

Wayne

Wyoming

* * * * *

[FR Doc. 02-19460 Filed 7-31-02; 8:45 am]

BILLING CODE 6325-39-P